DEPARTMENT OF TRANSPORTATION

Federal Aviation Administration

14 CFR Part 21

[Docket No. FAA-2020-1086]

Airworthiness Criteria: Special Class Airworthiness Criteria for the Amazon.com Services LLC MK27-2 Unmanned Aircraft; Correction

AGENCY: Federal Aviation Administration (FAA), DOT.

ACTION: Issuance of final airworthiness criteria; correction.

SUMMARY: The FAA published a document in the Federal Register on January 27, 2022, announcing the special class airworthiness criteria for the Amazon.com Services LLC Model MK27-2 unmanned aircraft. The document contained incorrect references to the applicant's name.

DATES: This correction is effective on February 24, 2022.

FOR FURTHER INFORMATION CONTACT: Christopher J. Richards, Emerging Aircraft Strategic Policy Section, AIR-618, Strategic Policy Management Branch, Policy and Innovation Division, Aircraft Certification Service, Federal Aviation Administration, 6020 28th Avenue South, Room 103, Minneapolis, MN 55450, telephone (612) 253-4559.

SUPPLEMENTARY INFORMATION:

Background

On January 21, 2022, the FAA issued final airworthiness criteria for the Amazon.com Services LLC Model MK27-2 unmanned aircraft, which published in the Federal Register on January 27, 2022 (87 FR 4128). The original application identified the applicant name as Amazon Logistics, Inc. On November 19, 2020, Amazon Logistics, Inc., amended its application to change its applicant name to “Amazon.com Services LLC.” As published, the document incorrectly referred to the original applicant name.

Correction

In the Federal Register of January 27, 2022 (87 FR 4128), make the following corrections:

1. On page 4128, in the first column, correct the subject heading to read “Airworthiness Criteria: Special Class Airworthiness Criteria for the Amazon.com Services LLC MK27-2 Unmanned Aircraft”

2. On page 4128, in the first column, in the SUMMARY section, line 3, correct “Amazon Logistics, Inc.” to read “Amazon.com Services LLC”.

3. On page 4128, in the second column, in the SUPPLEMENTARY INFORMATION section, line 1, correct “Amazon Logistics, Inc.” to read “Amazon.com Services LLC”.

Issued in Washington, DC, on February 15, 2022.
Ian Lucas,
Manager, Policy Implementation Section, Policy and Innovation Division, Aircraft Certification Service.

[FR Doc. 2022-03778 Filed 2-23-22; 8:45 am]

BILLING CODE 4910-13-P